DEPARTMENT OF HEALTH AND HUMAN SERVICES

Administration for Children and Families

Submission for OMB Review; LIHEAP Carryover and Reallotment Report (OMB #0970-0106)

AGENCY: Office of Community Services, Administration for Children and Families, HHS.

ACTION: Request for public comment.

SUMMARY: The Administration for Children and Families (ACF) is requesting additional comments on the renewal of the Low Income Home Energy Assistance Program (LIHEAP) Carryover and Reallotment Report (Office of Management and Budget (OMB) #0970-0106, expiration date April 30, 2022) with changes. Changes include the addition of one and the removal of two sources in pre-populated lines, the re-descriptions of annual funding sources, and minor wording changes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: ACF is requesting changes in the collection of data with the Carryover and Reallotment Report for FY 2022, a form for the collection of data, and the Simplified Instructions for Timely Obligations of LIHEAP Regular Block Grant, Reallotted, and Supplemental Funds and Reporting Funds for Carryover and Reallotment. The form clarifies the information being requested and ensures the submission of all the required information. The form facilitates our response to numerous queries each year concerning the amounts of obligated funds. Use of the form is mandatory for prior-year grant recipients that seek current current-year LIHEAP funds.

ACF published a Federal Register notice on February 11, 2022 soliciting 60 days of public comment on the renewal of the LIHEAP Carryover and Reallotment Report with changes and the continuation of requiring grant recipients to engage in this data collection annually. ACF received no comments on this notice.

Respondents: State governments, tribal governments, insular areas, and the District of Columbia.

Annual Burden Estimates
Instrument | Total number of respondents | Annual number of responses per respondent | Average burden hours per response | Annual burden hours
LIHEAP Carryover and Reallotment Report | 206 | 1 | 7 | 1,442

Estimated Total Annual Burden Hours: 1,442.

Authority: 42 U.S.C. 8626(b)(2)(B).

Mary B. Jones,
ACF/OPRE Certifying Officer.

[FR Doc. 2022-09063 Filed 4-27-22; 8:45 am]

BILLING CODE 4184-80-P